DEPARTMENT OF THE INTERIOR

National Park Service

National Register of Historic Places; Notification of Pending Nominations

Nominations for the following properties being considered for listing in the National Register were received by the National Park Service before September 21, 2002. Pursuant to § 60.13 of 36 CFR part 60 written comments concerning the significance of these properties under the National Register criteria for evaluation may be forwarded by United States Postal Service, to the National Register Historic Places, National Park Service, 1849 C St. NW., NC400, Washington, DC 20240; by all other carriers, National Register of Historic Places, National Park Service,1201 Eye St. NW., 8th floor, Washington, DC 20005; or by fax, 202-343-1836. Written or faxed comments should be submitted by October 21, 2002.

Carol D. Shull,
Keeper of the National Register of Historic Places.

CALIFORNIA

Madera County

Executive Office Building, Old Warner Brothers Studio, 5800 Sunset Blvd., Los Angeles, 02001257

Santa Clara County

Mountain View Adobe, 157 Moffett Blvd., Mountain View, 02001256

COLORADO

El Paso County

First Congregational Church, 20 E. St. Vrain St., Colorado Springs, 02001258

Shasta County

Phillips Brothers Mill, Approx. 30 mi. NE of Redding, and 5 mi. E of Oak Run, Oak Run, 02001255

FLORIDA

Sarasota County

Hermitage—Whitney Historic District, 6660 Manasota Key Rd., Englewood, 02001261

GEORGIA

Grady County

Evergreen Congregational Church and School, 497 Meridian Rd., Beachton, 02001260

McDuffie County

Hillman—Bowden House, 1348 Pyland Crossing Rd., Thomson, 02001259

KANSAS

Dickinson County

Freeman—Zumbrunn House, 3052 Quail Rd., Chapman, 02001266

Douglas County

Santa Fe Trail—Douglas County Trail Segments (Santa Fe Trail MPS), US 56, 2.5 mi. E of Baldwin City, Baldwin, 02001262

US Post Office—Lawrence, 645 New Hampshire, Lawrence, 02001265

Harvey County

Goerz, David, House, 2512 N. College Ave., North Newton, 02001267

Kingman County

Prather, Charles M., Barn, NW 30th St. and NW 60th Ave., Kingman, 02001263

Stafford County

First Methodist Episcopal Church, 219 W. Stafford, Stafford, 02001264

MAINE

Oxford County

Hall House, 10 Kilborn St., Bethel, 02001271

Somerset County

Bates, Asa, Memorial Chapel, 2 Ten Lots Rd., Fairfield Center, 02001272

Thatcher, Henry Knox, House, Old ME 3 and Elm St., Mercer, 02001273

Waldo County

Moody Farm, Jct. of Lawry Rd. and ME 173, Searsmont, 02001269

York County

Ayer, Caleb R., House, 7 Main St., Cornish, 02001270

MISSOURI

St. Louis County

Robinson, George R. and Elsie, House, (Kirkwood MPS), 443 E. Argonne, Kirkwood, 02001268

NEVADA

Washoe County

Nichols, Mary Lee, School, 400-406 Pyramid Way, Sparks, 02001277

NEW JERSEY

Passaic County

Goffle Brook Park, Goffle Rd., bet. Lafayette and MacFarlan Ave., Hawthorne, 02001276

OHIO

Stark County

French, Garnet B., House, 2410 Cleveland Ave., Canton, 02001275

Summit County

Hall Park Allotment Historic District, Roughly along Oakland Ave., from Crestwood Ave. and Crosby St., Akron, 02001274

OREGON

Clackamas County

Rosenfeld, Walter, Estate, 15361 S. Clackamas River Dr., Oregon City, 02001280

Josephine County

Cornell, Albert B. and Mary, House, 121 NE B St., Grants Pass, 02001279

Yamhill County

Evangelical Church of Lafayette, 605 Market St., Lafayette, 02001278

PENNSYLVANIA

Westmoreland County

Citizens National Bank of Latrobe, 816 Ligonier St., Latrobe, 02001281

SOUTH DAKOTA

Bon Homme County

Monfore, Peter and Minnie, House, 612 12th St., Springfield, 02001287

Clay County

Andre, William, House, 31256 452nd Ave., Gayville, 02001284

Armory, Old, —Vermillion, 414 E. Clark St., Vermillion, 02001285

Downtown Vermillion Historic District, Main St., roughly bounded by Market and Dakota Sts., Vermillion, 02001288

Davison County

Bobb, E.B., House, 501 E. 4th St., Mitchell, 02001282

Meade County

Graf, Stephen and Maria, House, 1233 Main St., Sturgis, 02001283

Minnehaha County

Steven's, Dr., House, 21 S. Riverview Heights, Sioux Falls, 02001286

By request of the state, building owner, and certified local official the comment period has been waived for the following resource:

NEW JERSEY

Camden County

Building 17, RCA Victor Company, Camden Plant, 17 Market St., Camden, 02001253

[FR Doc. 02-25254 Filed 10-3-02; 8:45 am]

BILLING CODE 4310-70-P